NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 18, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value. Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Office of Security Services (N1-16-09-3, 1 item, 1 temporary item). Master files of an electronic information system that contains geospatial data and other information relating to facility security that is used to assess risks and vulnerability, develop countermeasures, and carry out other aspects of physical security analysis and decision making.

2. Department of Agriculture, Food Safety and Inspection Service (N1-462-09-13, 3 items, 3 temporary items). Records relating to the agency web site, including web site management and operations records and web content that is not unique. Web content that is unique is either covered by previously approved schedules or will be scheduled in the future.

3. Department of Agriculture, Grain Inspection, Packers and Stockyards Administration (N1-545-10-2, 3 items, 3 temporary items). Records relating to the agency web site, including web site management and operations records and web content that is not unique. Web content that is unique is either covered by previously approved schedules or will be scheduled in the future.

4. Department of the Army, Agency-wide (N1-AU-10-80, 2 items, 2 temporary items). Master files of electronic information systems that are used to manage overseas deployments, training, and evaluations of Reserve Components. Records include unit data, commander's training assessments, and training lists.

5. Department of Health and Human Services, Agency for Healthcare Research and Quality (N1-510-09-5, 1 item, 1 temporary item). Master files of an electronic information system that contains treatment recommendations for medical conditions for use by clinicians.

6. Department of Health and Human Services, Centers for Medicare and Medicaid Services (N1-440-10-4, 4 items, 4 temporary items). Data use agreement forms and master files of an electronic information system relating to agreements made with outside entities that specify the terms under which data subject to the Privacy Act is provided to them.

7. Department of Health and Human Services, Centers for Medicare and Medicaid Services (N1-440-10-6, 4 items, 4 temporary items). Correspondence files relating to general inquiries received from beneficiaries, providers, and others.

8. Department of Housing and Urban Development, Office of Single Family Housing (N1-207-09-1, 1 item, 1 temporary item). Master files of an electronic information system used to track and maintain information concerning the participation of lenders in Federal Housing Administration programs.

9. Department of the Interior, Office of Surface Mining and Reclamation Enforcement (N1-471-10-3, 1 item, 1 temporary item). Master files of an electronic information system used to manage coal reclamation fee assessments, collections, penalty payments, and audits.

10. Department of Justice, Agency-wide (N1-60-10-8, 2 items, 2 temporary items). Agreements, reports, and other records relating to agreements made by the agency with Federal, state, and local agencies that permit computerized comparisons of automated data for such purposes as determining eligibility for benefits or assistance, recouping payments, or collecting delinquent debts.

11. Department of Justice, Agency-wide (N1-60-10-20, 2 items, 2 temporary items). Strategic plans covering agency components and related background files. Strategic plans for the agency as a whole were previously approved for permanent retention.

12. Department of Justice, Justice Management Division (N1-60-10-3, 2 items, 1 temporary item). Requests for funding for mediators/professional neutrals used for dispute resolution by agency attorneys. Proposed for permanent retention are master files of an electronic information system that contains data concerning such funding requests.

13. Department of Justice, Justice Management Division (N1-60-10-21, 2 items, 2 temporary items). Requests for original classification authority submitted by agency offices and briefing materials for personnel granted security clearances.

14. Department of Justice, Office of Justice Programs (N1-423-09-6, 1 item, 1 temporary item). Master files of an electronic information system used to manage community partnership grants, including the approval process and the administration of grants.

15. Department of Justice, Office of Public Affairs (N1-60-10-2, 3 items, 2 temporary items). Content posted to social media for public affairs purposes, except for content posted to the agency blog, which is proposed for permanent retention.

16. Department of Justice, Federal Bureau of Investigation (N1-65-09-25, 7 items, 7 temporary items). Reports, training records, and other materials relating to the agency's electronic surveillance program.

17. Department of Justice, Federal Bureau of Investigation (N1-65-09-28, 2 items, 1 temporary item). Access audit logs of an electronic information system that contains data on individuals involved in child pornography and related activities. Master files of this system are proposed for permanent retention.

18. Department of Justice, Federal Bureau of Investigation (N1-65-10-12, 1 item, 1 temporary item). Data received from international law partners that is included in an electronic information system that contains data concerning known and suspected terrorists. The other data in this system was previously approved for disposal.

19. Department of Justice, Federal Bureau of Investigation (N1-65-10-13, 1 item, 1 temporary item). Reference copies of information printed out from an electronic information system which maintains sensitive source reporting and is managed by the Central Intelligence Agency.

20. Department of Justice, Federal Bureau of Investigation (N1-65-10-20, 6 items, 4 temporary items). Records included in the agency's automated electronic surveillance recordkeeping system that reference individuals whose identity could not be determined who were party to communications or present in locations that were monitored or recorded electronically. Also included are audit records relating to the system. Proposed for permanent retention are references to individuals whose identities could be determined, including individuals who were the targets of the surveillance as well as individuals whose communications were overheard or intercepted.

21. Department of the Navy, Agency-wide (N1-NU-10-3, 10 items, 7 temporary items). Routine video and communications monitoring records of shipboard activities. Materials accumulated during direct armed contact with a hostile force are proposed for permanent retention.

22. Department of State, Bureau of Consular Affairs (N1-59-09-40, 2 items, 2 temporary items). Records included in an electronic case management system used to track, monitor, and report on services provided to U.S. citizens traveling or living abroad. Records relate to such matters as death notifications, financial assistance, and lost or stolen passports.

23. Department of State, Bureau of Educational and Cultural Affairs (N1-59-09-30, 2 items, 1 temporary item). Outputs associated with an electronic information system that contains data on exchange programs sponsored by Federal agencies. Proposed for permanent retention are the system's master files, including descriptions of exchange programs, sponsoring agency, funding data, and other information.

24. Department of State, Bureau of Educational and Cultural Affairs (N1-59-09-33, 2 items, 2 temporary items). Master files and outputs associated with an electronic information system that contains data on the agency's international visitors leadership program, including information concerning funding, participants, and organizations administering projects.

25. Department of State, Office of the Legal Advisor (N1-59-09-44, 2 items, 1 temporary item). Case files relating to litigation arising from the North American and Central American Free Trade Agreements that lack historical significance or do not set a precedent. Case files of historical significance or that set a precedent are proposed for permanent retention.

26. Department of Transportation, Federal Highway Administration (N1-406-10-3, 1 item, 1 temporary item). Master files of an electronic information system that contains research data and test results relating to pavement materials and construction.

27. Department of Transportation, Federal Railroad Administration (N1-399-07-4, 2 items, 1 temporary item). Schedules of daily activities and calendars accumulated by senior officials and their staff, excluding the Administrator and Deputy Administrator, whose schedules and calendars are proposed for permanent retention.

28. Department of the Treasury, Office of the Inspector General (N1-56-09-23, 2 items, 2 temporary items). Master files and system documentation of an electronic information system used to track and manage all aspects of audits.

29. Department of the Treasury, Internal Revenue Service (N1-58-10-9, 1 item, 1 temporary item). Case files that relate to projects in which taxpayer returns are sampled and analyzed to identify potential areas of noncompliance in order to take corrective action.

30. Department of the Treasury, Office of Thrift Supervision (N1-483-09-2, 13 items, 7 temporary items). General program files accumulated below the Director and Deputy Director level, files relating to the review of legislation relating to the thrift industry, case files relating to litigation lacking in significance, drawings relating to facilities, and other routine program records. Proposed for permanent retention are such records as program files of the Director and Deputy Director, publications and policy documents relating to the agency's mission, reports to Congress, significant litigation files, program records of the Chief Counsel, and reports of examination and other records relating to thrift institutions.

31. Department of Veterans Affairs, Veterans Benefits Administration (N1-15-10-3, 1 item, 1 temporary item). Master files of an electronic information system used to manage and track vocational rehabilitation cases.

32. American Battle Monuments Commission, Agency-wide (N1-117-10-1, 23 items, 11 temporary items). Funding records relating to the establishment of the National World War II Memorial, including such records as correspondence soliciting donations, files on major donors, and funding status reports. Also included are routine correspondence files and web site content records. Proposed for permanent retention are such records as minutes of meetings, files of the Chairman, public relations files, plans and drawings, and records relating to site selection.

33. Federal Communications Commission, Media Bureau (N1-173-10-3, 2 items, 2 temporary items). Records relating to inactive or resolved informal cases that stem from regulations that prohibit restrictions that impair the use of antennas for receiving video programming.

34. Office of the Director of National Intelligence, Office of the General Counsel (N1-576-10-2, 13 items, 7 temporary items). Background files relating to legal opinions, litigation files that lack historical significance, background files relating to the review of proposed legislation, non-substantive working papers, and other records relating to legal matters. Proposed for permanent retention are such records as legal opinions, historically significant litigation files, policy and oversight reports, and reviews of proposed legislation.

35. Peace Corps, Office of Congressional Relations (N1-490-10-1, 3 items, 1 temporary item). Correspondence regarding constituent issues sent the agency by members of Congress. Proposed for permanent retention are correspondence with and reports submitted to Congress and briefing materials provided to agency officials and nominees testifying before Congress.

36. U.S. District Courts, Agency-wide (N1-21-10-1, 2 items, 2 temporary items). Surveillance recordings used by U.S. Marshals for security purposes, including routine recordings and recordings that deal with security incidents.

37. U.S. Sentencing Commission, Agency-wide (N1-539-10-1, 41 items, 21 temporary items). Legislative files, program management records accumulated below the level of staff and deputy directors, training records, correspondence with inmates and the general public, litigation subject research files, copies of case files received from Federal courts, and other records. Also included are web site content and management records. Proposed for permanent retention are such records as Commissioner subject files, transcripts and other records accumulated in connection with congressional hearings and public meetings, legal briefs concerning sentencing issues, publications, litigation files, and significant program management files accumulated at the staff director level.

Dated: July 13, 2010.
Michael J. Kurtz,
Assistant Archivist for Records Services—Washington, DC.

[FR Doc. 2010-17623 Filed 7-16-10; 8:45 am]

BILLING CODE 7515-01-P